DEPARTMENT OF LABOR

Mine Safety and Health Administration

30 CFR Parts 7 and 75

RIN 1219-AB79

Refuge Alternatives for Underground Coal Mines

AGENCY: Mine Safety and Health Administration, Labor.

ACTION: Request for information; extension of comment period.

SUMMARY: In response to requests from interested parties, the Mine Safety and Health Administration (MSHA) is extending the comment period on the Agency's Request for Information (RFI) on Refuge Alternatives for Underground Coal Mines. This extension gives interested parties additional time to review new information on refuge alternatives.

DATES: Comments must be received by midnight Eastern Standard Time on December 6, 2013.

ADDRESSES: Submit comments and supporting documentation by any of the following methods:

• Federal E-Rulemaking Portal: http://www.regulations.gov. Follow the on-line instructions for submitting comments for Docket Number MSHA-2013-0033.

• Electronic mail: zzMSHA-comments@dol.gov. Include “RIN 1219-AB79” in the subject line of the message.

• Mail: Send comments to MSHA, Office of Standards, Regulations, and Variances, 1100 Wilson Boulevard, Room 2350, Arlington, Virginia 22209-3939.

• Hand Delivery or Courier: MSHA, Office of Standards, Regulations, and Variances, 1100 Wilson Boulevard, Room 2350, Arlington, Virginia, between 9:00 a.m. and 5:00 p.m. Monday through Friday, except Federal holidays. Sign in at the receptionist's desk on the 21st floor.

Instructions: Clearly identify all submissions with “RIN 1219-AB79”. Because comments will not be edited to remove any identifying or contact information, MSHA cautions the commenter against including information in the submission that should not be publicly disclosed.

FOR FURTHER INFORMATION CONTACT: George F. Triebsch, Director, Office of Standards, Regulations, and Variances, MSHA, at triebsch.george@dol.gov (email); 202-693-9440 (voice); or 202-693-9441 (facsimile). These are not toll-free numbers.

SUPPLEMENTARY INFORMATION: On August 8, 2013 (78 FR 48593), MSHA published a Request for Information on Refuge Alternatives for Underground Coal Mines. The RFI comment period had been scheduled to close on October 7, 2013. In response to requests, MSHA is extending the comment period to December 6, 2013 to allow interested parties additional time to review National Institute for Occupational Safety and Health information.

Dated: September 18, 2013.
Joseph A. Main,
Assistant Secretary of Labor for Mine Safety and Health.

[FR Doc. 2013-23031 Filed 9-20-13; 8:45 am]

BILLING CODE 4510-43-P